DEPARTMENT OF DEFENSE

Office of the Secretary

[Docket ID: DOD-2025-OS-0508]

Proposed Collection; Comment Request

AGENCY: Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 24, 2025.

ADDRESSES: You may submit comments, identified by docket number and title, by any of the following methods:

Federal eRulemaking Portal: http://www.regulations.gov. Follow the instructions for submitting comments.

Mail: Department of Defense, Office of the Director of Administration and Management, Directorate for Oversight and Compliance, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Personnel Analytics Center, 4800 Mark Center Drive, Alexandria, VA 22350, Robin Myers, 571-372-1110.

SUPPLEMENTARY INFORMATION:

Title; Associated Form; and OMB Number: Active Duty Spouse Survey; OMB Control Number 0704-0604.

Needs and Uses: The Active-Duty Spouse Survey (ADSS) is the primary source for reliable and generalizable survey data on the effects of military life on military spouses and their families and the effectiveness of current programs and policies. This scientific survey is designed to enhance understanding of how spouse and family resilience impact force readiness and retention and inform the effectiveness of programs and policies under the purview of DoD's Military Community and Family Policy Department. The ADSS provides unique, ongoing, reliable data to equip policymakers with the information they need to make strategic, data-driven decisions on a vital component of the total force—military spouses and families. All active-duty spouses who want to share their experiences but were not selected as part of the larger scientific survey will be able to complete a shorter survey hosted online during the same field period.

This survey provides an opportunity for military spouses to directly expand policy maker's knowledge by sharing their experiences and opinions on issues that directly affect them. Success of current efforts, the impact of deployments and Permanent Change of Station moves, and opportunities to identify areas of need are captured via this biennial survey. The survey results ensure policy making decisions are based on current statistically reliable data regarding the lived experiences of Active component families.

Affected Public: Individuals or households.

Annual Burden Hours: 6,500 hours.

Number of Respondents: 13,000.

Responses per Respondent: 1.

Annual Responses: 13,000.

Average Burden per Response: 30 minutes.

Frequency: Once.

Dated: August 20, 2025.
Stephanie J. Bost,
Alternate OSD Federal Register Liaison Officer, Department of Defense.

[FR Doc. 2025-16173 Filed 8-22-25; 8:45 am]

BILLING CODE 6001-FR-P